DEPARTMENT OF JUSTICE

Office of Justice Programs

Agency Information Collection Activities: Proposed Collection; Comments Requested

ACTION: 30-day notice of information collection under review: Semi-annual Progress Report for the Grants to Reduce Violent Crimes Against Women on Campus Program.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 68, Number 167, page 51807 on August 28, 2003, allowing for a 60-day comment period.

The purpose of this notice is to allow for an additional 30 days for public comment until January 2, 2004. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Semi-annual Progress Report for Grants to Reduce Violent Crimes Against Women on Campus Program.

(3) Agency form number, if any, and the applicable component of the Department of Justice sponsoring the collection: Form Number: OMB Number 1121-0258. The U.S. Department of Justice, Office on Violence Against Women is sponsoring the collection.

(4) Affected public who will be asked or required to respond, as well as a brief abstract: Primary: The affected public includes the 100 grantees (institutions of higher education) from the Grants to Reduce Violent Crimes Against Women on Campus Program. Campus Program grants may be used to enhance victim services and develop programs to prevent violent crimes against women on campuses. The Campus Program also enables institutions of higher education to develop and strengthen effective security and investigation strategies to combat violent crimes against women on campuses, including domestic violence, dating violence, sexual assault, and stalking.

(5) An estimate of the total number of respondents and the amount of time estimated for an average respondent to respond/reply: It is estimated that it will take the 100 respondents (grantees from the Grants to Reduce Violent Crimes Against Women on Campus Program—institutions of higher education) approximately one hour to complete a semi-annual progress report. The Semi-annual Progress Report is divided into sections that pertain to the different types of activities that grantees may engage in and the different types of grantees that receive funds. Grantees must complete only those sections that are relevant to their activities.

(6) An estimate of the total public burden (in hours) associated with the collection: The total estimated annual hour burden to complete the Semi-annual Progress Report is 200.

If additional information is required contact: Brenda E. Dyer, Deputy Clearance Officer, United States Department of Justice, Justice Management Division, Policy and Planning Staff, Patrick Henry Building, Suite 1600, 601 D Street, NW., Washington, DC 20530.

Dated: November 25, 2003.
Brenda E. Dyer,
Deputy Clearance Officer, Department of Justice.

[FR Doc. 03-29916 Filed 12-1-03; 8:45 am]

BILLING CODE 4410-18-P